DEPARTMENT OF DEFENSE

Department of the Army

[Docket ID: USA-2021-HQ-0022]

Submission for OMB Review; Comment Request

AGENCY: Department of the Army, Department of Defense (DoD).

ACTION: 30-Day information collection notice.

SUMMARY: The DoD has submitted to OMB for clearance the following proposal for collection of information under the provisions of the Paperwork Reduction Act.

DATES: Consideration will be given to all comments received by January 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 372-7574, whs.mc-alex.esd.mbx.dd-dod-information-collections@mail.mil.

SUPPLEMENTARY INFORMATION: Title; Associated Form; and OMB Number: Application for Survivor Access Card; IMCOM Form 44; OMB Control Number 0702-SACA.

Type of Request: New collection.

Number of Respondents: 670.

Responses per Respondent: 1.

Annual Responses: 670.

Average Burden per Response: 60 minutes.

Annual Burden Hours: 670.

Needs and Uses: In accordance with AR 190-13, the Army Physical Security Program permits surviving family members to have unescorted access to Army installations via the Survivor Access Card, in order for them to receive services, attend events, view memorials, and similar activities. Eligible survivors are those who meet the eligibility criteria to receive the Gold Star Lapel Button or Next of Kin Lapel Button. Eligible survivors must first contact the installation level Survivor Outreach Services (SOS) support coordinator to verify eligibility and coordinate issuance of an installation access credential. The application for Survivor Access Card (IMCOM Form 44) is obtained by eligible surviving family members from SOS staff members. Eligible family members complete the form to obtain the Survivor Access Card which grants survivors ease of access to military installations.

Affected Public: Individuals or households.

Frequency: As required.

Respondent's Obligation: Required to Obtain or Retain Benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: December 16, 2021.
Aaron T. Siegel,
Alternate OSD Federal Register Liaison Officer, Department of Defense.

[FR Doc. 2021-27666 Filed 12-21-21; 8:45 am]

BILLING CODE 5001-06-P